DEPARTMENT OF ENERGY

Federal Energy Regulatory Commission

[Project No. 10455-021]

JDJ Energy Company; Notice of Extension of Deadline for Filing Comments and or Motions on Notice of Application for Amendment of License

November 29, 2001.

Take notice that the deadline for filing comments, motions to intervene, or protests on the notice of application to amend the license for the River Mountain Pumped Storage Hydroelectric Project (Project No. 10455-021), issued November 27, 2001, is extended to December 31, 2001.

Linwood A. Watson, Jr.,
Acting Secretary.

[FR Doc. 01-30122 Filed 12-4-01; 8:45 am]

BILLING CODE 6717-01-P